DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Assessment of the Reach Out Now National Teach-In Initiative (OMB No. 0930-0258; Revision)—Under Section 515(b) of the Public Health Service Act (42 U.S.C. 290bb-21), the Center for Substance Abuse Prevention (CSAP) of the Substance Abuse and Mental Health Services Administration (SAMHSA) is directed to develop effective alcohol abuse prevention literature and, to assure the widespread dissemination of prevention materials among States, political subdivisions, and school systems. Each April, SAMHSA collaborates with Scholastic Inc. in the April distribution of Reach Out Now: Talk to Your Fifth and Sixth Grader About Underage Alcohol Use, a supplement created and distributed by Scholastic Inc.

Beginning in April 2004, SAMHSA sponsors an annual national Teach-In to foster a conversation with fifth graders on the dangers of early alcohol use; effective in 2005 the Teach-In is being expanded to include sixth graders. State substance abuse prevention directors nominate organizations to participate in this program. The Teach-In program builds upon the highly successful national initiative of the Leadership to Keep Children Alcohol Free, which is focused on preventing alcohol use among children ages 9 to 15 and is spearheaded by more than 40 current and past Governors' spouses, who have held or supported Reach Out Now Teach-Ins in their States.

Organizations that agree to participate in this SAMHSA initiative are asked to provide feedback information about the implementation and results of the Teach-In event in their community school. The table that follows provides an estimate of the annual response burden for the feedback form.

No. of respondents | Responses/respondent | Burden/response (hrs.) | Total burden hours
200 | 1 | .167 | 34

Written comments and recommendations concerning the proposed information collection should be sent by September 20, 2004 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 12, 2004.
Anna Marsh,
Executive Officer, SAMHSA.

[FR Doc. 04-19108 Filed 8-19-04; 8:45 am]

BILLING CODE 4162-20-P